DEPARTMENT OF ENERGY

Notice of Intent To Prepare an Environmental Impact Statement for the Orlando Gasification Project, Orlando, FL

AGENCY: Department of Energy.

ACTION: Notice of intent.

SUMMARY: The U.S. Department of Energy (DOE) announces its intent to prepare an Environmental Impact Statement (EIS) pursuant to the National Environmental Policy Act (NEPA) of 1969, as amended (42 U.S.C. 4321 et seq.), the Council on Environmental Quality NEPA regulations (40 Code of Federal Regulations [CFR] Parts 1500-1508), and the DOE NEPA regulations (10 CFR Part 1021), to assess the potential environmental impacts associated with the construction and operation of a project proposed by Southern Company in partnership with Orlando Utilities Commission (OUC), which has been selected by DOE under the Clean Coal Power Initiative (CCPI) program. The proposed project would demonstrate advanced power generation systems using Integrated Gasification Combined Cycle (IGCC) technology at OUC's Stanton Energy Center near Orlando, Florida. The facilities would convert coal into synthesis gas for generating between 285 and 330 MW (megawatts) of electricity while substantially reducing emissions of sulfur dioxide, oxides of nitrogen, and mercury, as compared to conventional coal-fired power plants.

The EIS will help DOE decide whether to provide approximately $235 million in cost-shared funding (about 42% of the total cost of approximately $557 million) for the proposed project. Accordingly, the EIS will evaluate the potential impacts of the proposed project and reasonable alternatives. The purpose of this Notice of Intent is to inform the public about the proposed project; invite public participation in the EIS process; announce the plans for a public scoping meeting; and solicit public comments for consideration in establishing the scope and content of the EIS.

DATES: To ensure that all of the issues related to this proposal are addressed, DOE invites comments on the proposed scope and content of the EIS from all interested parties. Comments must be received by September 16, 2005, to ensure consideration. Late comments will be considered to the extent practicable. In addition to receiving comments in writing and by telephone, DOE will conduct a public scoping meeting in which agencies, organizations, and the general public are invited to present oral comments or suggestions with regard to the range of alternatives and environmental impacts to be considered in the EIS. The scoping meeting will be held at Timber Creek High School, 1001 Avalon Park Boulevard, Orlando, Florida, on Tuesday, August 30, 2005, at 7 p.m. The public is also invited to an informal session at this location beginning at 5 p.m. to learn more about the proposed project. Displays and other forms of information about the proposed agency action and the demonstration plant will be available, and DOE personnel will be present at the informal session to discuss the proposed project and the EIS process.

ADDRESSES: Written comments on the proposed EIS scope and requests to participate in the public scoping meeting should be addressed to: Mr. Richard A. Hargis, U.S. Department of Energy, National Energy Technology Laboratory, 626 Cochrans Mill Road, P.O. Box 10940, Pittsburgh, PA 15236-0940. Individuals who want to provide comments orally or electronically should contact Mr. Hargis directly by telephone: 412-386-6065; toll-free number: 1-888-322-7436; fax: 412-386-4775; or electronic mail: Richard.Hargis@NETL.DOE.GOV.

FOR FURTHER INFORMATION, CONTACT: For information about this project or to receive a copy of the draft EIS when it is issued, contact Mr. Richard A. Hargis as described in ADDRESSES above. For general information on the DOE NEPA process, contact Ms. Carol M. Borgstrom, Director, Office of NEPA Policy and Compliance (EH-42), U.S. Department of Energy, 1000 Independence Avenue, SW., Washington, DC 20585-0119; telephone: 202-586-4600; fax: 202-586-7031; or leave a toll-free message at: 1-800-472-2756.

SUPPLEMENTARY INFORMATION:

Background and Need for Agency Action

Since the early 1970s, DOE and its predecessor agencies have pursued research and development programs that include long-term, technically complex activities that support the development of innovative concepts for a wide variety of coal technologies through the proof-of-concept stage. However, the availability of a technology at the proof-of-concept stage is not sufficient to ensure its continued development and subsequent commercialization. Before any technology can be considered seriously for commercialization, it must be demonstrated at a sufficient scale to prove its reliability and to show economically competitive performance. The financial risk associated with such large-scale demonstration is, in general, too high for the private sector to assume in the absence of strong incentives.

The CCPI program was established in 2002 as a government/industry partnership to implement the President's National Energy Policy recommendation to increase investment in clean coal technology. The goal of the CCPI program is to accelerate commercial deployment of advanced coal technologies that provide the United States with clean, reliable, and affordable energy. Through cooperative agreements established with industry, including an agreement with Southern Company for the proposed project, the CCPI program plans to advance selected coal technologies to commercialization.

Proposed Action

The proposed action is for DOE to provide, through a cooperative agreement with Southern Company, cost-shared financial assistance for the proposed Orlando Gasification Project. Southern Company is leading a project team that includes OUC and Kellogg, Brown, and Root (KBR), the company responsible for engineering and procurement of the gasification equipment. The Orlando Gasification Project would be designed for long-term commercial operation following completion of a 4.5-year demonstration period under a 9.5-year cooperative agreement with DOE, and would cost a total of approximately $557 million; DOE's share would be approximately $235 million (42%). The proposed project would be located at OUC's existing Stanton Energy Center near Orlando, Florida, which currently generates electricity using two coal-fired units, each rated at approximately 465 MW, burning low-sulfur bituminous coal, and a natural gas-fired combined-cycle unit rated at approximately 633 MW.

The Stanton Energy Center is located approximately 3 miles east of the eastern city limits of Orlando and about 13 miles east-southeast of the downtown area. The overall site encompasses 3,280 acres, of which approximately 1,100 acres have been licensed by the state of Florida and have been developed for power generation and supporting facilities. Most of the remaining 2,180 acres are undisturbed, providing a natural buffer between the facilities and the surrounding offsite area. The topography of the area is relatively flat. The Orlando Gasification Project would be constructed on approximately 35 of the 1,100 acres of land that were previously cleared, leveled, and licensed for power plant use. The project equipment would be located between the existing coal-fired units and the existing natural gas-fired combined-cycle unit. An existing temporary warehouse may be dismantled to accommodate the ancillary facilities required by the proposed project.

The proposed facilities would demonstrate IGCC technology, which uses synthesis gas derived from coal to drive a gas combustion turbine and hot exhaust gas from the gas turbine to generate steam from water to drive a steam turbine; both turbines generate electricity. At full capacity, the new coal gasifier would use up to 3,700 tons of coal per day to produce synthesis gas. Up to three trains per week would deliver subbituminous coal from the Powder River Basin in Wyoming. Combined, the two turbines would generate between 285 and 330 MW (net) of electricity. This combined-cycle approach of using a gas turbine and steam turbine in tandem increases the amount of electricity that can be generated from a given amount of coal.

The overall objective of the project is to demonstrate the feasibility of this selected IGCC technology at a size that would be attractive to utilities for commercial operation. The coal gasifier is based on a KBR technology that Southern Company and DOE have been developing since 1996 at a research facility near Wilsonville, Alabama. The technology is unique among coal gasification technologies in that it is cost-effective when using low-quality coal, as well as coals with high moisture or high ash content. These coals comprise half the proven U.S. and worldwide reserves. The project is expected to provide OUC customers with a generating resource that is reliable, low-cost, environmentally-sound, and efficient (approximately 40% net efficiency compared to about 33% for a conventional coal-fired power plant).

Construction and installation of the combined-cycle facilities would be completed approximately 6 months prior to gasifier completion and integration of the facilities. The gas turbine would be capable of operating on either natural gas or synthesis gas. While the proposed project consists of the gasifier, synthesis gas cleanup systems, and supporting infrastructure only, the EIS will address the construction and operation of the gas turbine and steam turbine as a related action and include the combined facilities in the analyses of environmental impacts because the facilities are so intertwined.

The proposed project would minimize sulfur dioxide, oxides of nitrogen, mercury, and particulate emissions. The project is expected to remove up to 95% of the sulfur dioxide produced in the IGCC process using coal that contains up to 0.4% sulfur. The removal of nearly all of the fuel-bound nitrogen from the synthesis gas prior to combustion in the gas turbine would result in appreciably lower oxides of nitrogen emissions compared to conventional coal-fired power plants. Over 90% of the mercury would be removed. Over 99.9% of particulate emissions would be removed using high-temperature, high-pressure filtration (rigid filters housed in metal cylinders). Approximately 25% less carbon dioxide would be produced compared to typical emission rates at conventional coal-fired power plants. The proposed project would discharge no liquid effluent from the site. Ash generated by the gasifier would be combusted in the existing coal-fired units, marketed for use as activated carbon, or trucked to the existing onsite landfill for permitted disposal. A key performance target for the proposed technology would be achieving an availability of 80% without the use of a spare gasifier.

In addition to the gasifier and turbines, new equipment for the project would include a stack, mechanical-draft cooling towers, synthesis gas cleanup facilities, and particulate filtration systems. The height of the proposed stack is expected to be approximately 200 feet. The project would also require modifications to existing systems such as the coal conveyance and storage system. Wherever possible, existing facilities and infrastructure located at the Stanton Energy Center would be used for the proposed project. These include plant roads, administration buildings, coal delivery and handling facilities, water and wastewater treatment systems, and electric transmission lines and towers. However, a short, new transmission line (approximately 3,500 feet in length), including several new structures, would be required from the new turbines to the existing onsite substation to serve as an electrical interconnection.

Project activities would include engineering and design, permitting, equipment procurement, construction, startup, and demonstration of the commercial feasibility of the technology. Upon completing the EIS and issuing a Record of Decision, if DOE decides to implement the proposed action, the 2.5-year construction period would commence in early 2008 and demonstration of the technology would begin in early 2011. If the 4.5-year demonstration is successful, the facility would continue in commercial operation immediately afterward.

Alternatives

NEPA requires that agencies evaluate the range of reasonable alternatives to the proposed action in an EIS. The purpose for agency action determines the range of reasonable alternatives. The CCPI program was established to help implement the President's National Energy Policy recommendation to increase investment in clean coal technology, thus ensuring the reliability and affordability of domestic energy supplies while simultaneously protecting the environment. The CCPI program was structured to achieve National Energy Policy goals by promoting private sector initiatives to invest in demonstrations of advanced coal technologies that could be widely deployed commercially. Private sector investments and deployment of demonstration facilities places DOE in a much more limited role than if the Federal Government were the owner and operator of the facilities. In the latter situation, DOE would be responsible for a comprehensive review of reasonable alternatives. However, in dealing with applicants under the CCPI program, the scope of alternatives is necessarily more restricted. In such cases, DOE must give substantial consideration to the applicant's needs in establishing a project's reasonable alternatives.

The range of reasonable options to be considered in the EIS for the proposed Orlando Gasification Project is determined in accordance with overall NEPA strategy. Because of DOE's limited role of providing cost-shared funding for the project, DOE currently plans to give primary emphasis to the proposed action and the no-action alternative. Under no action, DOE would not provide partial funding for the design, construction, and operation of the project.

In the absence of DOE funding, Southern Company and/or OUC could reasonably pursue at least one option. This option will be analyzed under the no-action alternative. The combined-cycle facilities could be built at the Stanton Energy Center without the gasifier, synthesis gas cleanup systems, and supporting infrastructure. The combined-cycle facilities would operate using natural gas as fuel without the availability of synthesis gas. This scenario would not provide a low-cost fuel source for the combined-cycle facilities and would not contribute to the goal of the CCPI program, which is to accelerate commercial deployment of advanced coal technologies that provide the United States with clean, reliable, and affordable energy.

Alternatives considered by Southern Company in developing the proposal for the Orlando Gasification Project, including alternative sites and technologies for the proposed project, also will be presented in the EIS. DOE will consider other reasonable alternatives that may be suggested during the public scoping period.

Preliminary Identification of Environmental Issues

The following environmental issues have been tentatively identified for analysis in the EIS. This list, which was developed from preliminary scoping of the proposed technology, the proposed project at Stanton Energy Center, and similar projects, is neither intended to be all-inclusive nor a predetermined set of potential impacts, but is presented to facilitate public comment on the planned scope of the EIS. Additions to or deletions from this list may occur as a result of the public scoping process. The environmental issues include:

(1) Atmospheric Resources: Potential air quality impacts resulting from air emissions during construction and operation of the proposed Orlando Gasification Project (e.g., effects of ground-level concentrations of criteria pollutants, and trace metals including mercury, on surrounding residential areas and resource areas of special concern, such as Prevention of Significant Deterioration Class I areas); potential effects of greenhouse gas emissions.

(2) Water Resources: Potential effects from withdrawal of groundwater (the proposed project would discharge no liquid effluent from the site).

(3) Infrastructure and Land Use: Potential effects on infrastructure and land (including wetlands) resulting from the proposed facilities; potential traffic effects resulting from trains required to transport coal for the proposed project; potential impacts from a new electrical interconnection consisting of a short, onsite transmission line and several associated structures.

(4) Solid Waste: Pollution prevention and waste management, including potential solid waste impacts caused by the generation, treatment, transport, storage, and disposal of ash and other solid wastes.

(5) Visual: Potential aesthetic impacts associated with a new stack, mechanical-draft cooling tower, and other plant structures.

(6) Floodplain: Potential impacts (e.g., impeding floodwaters, re-directing floodwaters, onsite property damage) of siting new structures and infrastructure within a floodplain (e.g., onsite transmission line for electrical interconnection from the combined-cycle facilities to the existing onsite substation).

(7) Wetlands: Potential reduction of wetlands due to new construction (e.g., onsite transmission line for electrical interconnection).

(8) Ecological: Potential onsite and offsite impacts to vegetation, terrestrial wildlife, aquatic wildlife, threatened and endangered species, and ecologically sensitive habitats.

(9) Safety and Health: Construction-related safety, process safety, and management of chemicals and catalysts.

(10) Construction: Potential impacts associated with noise, traffic patterns, and construction-related emissions.

(11) Community Impacts: Potential congestion and other impacts to local traffic patterns; socioeconomic impacts; noise associated with project operation; and environmental justice with respect to the surrounding community.

(12) Cumulative effects that result from the incremental impacts of the proposed project (e.g., incremental air emissions affecting ambient air quality) when added to other past, present, and reasonably foreseeable future actions, including the existing Stanton Energy Center and the related action of the combined-cycle turbines.

Issues will be analyzed in the EIS in accordance with their level of importance. The most detailed analyses are tentatively expected to focus on issues associated with air quality, traffic, aesthetics, and ecological resources.

Public Scoping Process

To ensure that all issues related to this proposal are addressed, DOE will conduct an open process to define the scope of the EIS. The public scoping period will end on September 16, 2005. Interested agencies, organizations, and the general public are encouraged to submit comments or suggestions concerning the content of the EIS, issues and impacts to be addressed in the EIS, and alternatives that should be considered.

Scoping comments should clearly describe specific issues or topics that the EIS should address in order to assist DOE in identifying significant issues. Written, e-mailed, faxed, or telephoned comments should be communicated by September 16, 2005 (see ADDRESSES).

In addition, DOE will conduct a public scoping meeting at Timber Creek High School, 1001 Avalon Park Boulevard, Orlando, Florida, on Tuesday, August 30, 2005, at 7 p.m. The public is also invited to an informal session at this location beginning at 5 p.m. to learn more about the proposed project. DOE requests that anyone who wishes to speak at this public scoping meeting contact Mr. Richard A. Hargis, either by phone, fax, computer, or in writing (see ADDRESSES).

Individuals who do not make advance arrangements to speak may register at the meeting and will be given the opportunity to speak following previously scheduled speakers. Speakers who need more than five minutes should indicate the length of time desired in their request. Depending on the number of speakers, DOE may need to limit speakers to five-minute presentations initially, but will provide additional opportunities as time permits. Speakers can also provide written material to supplement their presentations. Oral and written comments will be given equal weight.

DOE will begin the meeting with an overview of the proposed Orlando Gasification Project. DOE will designate a presiding officer to chair the meeting. The meeting will not be conducted as an evidentiary hearing, and speakers will not be cross-examined. However, speakers may be asked questions to ensure that DOE fully understands their comments or suggestions.

The presiding officer will establish the order of speakers and provide any additional procedures necessary to conduct the meeting.

Issued in Washington, DC, this 5th day of August, 2005.
John Spitaleri Shaw,
Assistant Secretary, Environment, Safety and Health.

[FR Doc. 05-15906 Filed 8-10-05; 8:45 am]

BILLING CODE 6450-01-P